DEPARTMENT OF COMMERCE

International Trade Administration

[A-583-863]

Forged Steel Fittings From Taiwan: Final Results of Antidumping Duty Administrative Review; 2021-2022

AGENCY: Enforcement and Compliance, International Trade Administration, Department of Commerce.

SUMMARY: The U.S. Department of Commerce (Commerce) determines that Both-Well Steel Fittings Co., Ltd. (Bothwell), a producer/exporter of forged steel fittings from Taiwan, did not sell subject merchandise at prices below normal value during the period of review (POR) September 1, 2021 through August 31, 2022.

DATES: Applicable November 24, 2023.

FOR FURTHER INFORMATION CONTACT: Dennis McClure, AD/CVD Operations, Office VIII, Enforcement and Compliance, International Trade Administration, U.S. Department of Commerce, 1401 Constitution Avenue NW, Washington, DC 20230; telephone: (202) 482-5973.

SUPPLEMENTARY INFORMATION:

Background

On September 29, 2023, Commerce published in the Federal Register the Preliminary Results of the administrative review of the antidumping duty order on forged steel fittings from Taiwan.¹ This review covers one producer/exporter of the subject merchandise, Bothwell. We invited parties to comment on the Preliminary Results.² No interested party submitted comments. Commerce conducted this administrative review in accordance with section 751(a) of the Tariff Act of 1930, as amended (the Act).

¹ See Forged Steel Fittings from Taiwan: Preliminary Results of Antidumping Duty Administrative Review; 2021-2022, 88 FR 67238 (September 29, 2023) (Preliminary Results), and accompanying Preliminary Decision Memorandum (PDM).

² Id.

Scope of the Order ³

³ See Forged Steel Fittings from Taiwan: Antidumping Duty Order, 83 FR 48280 (September 24, 2018) (Order).

The merchandise subject to the Order are carbon and alloy forged steel fittings, whether unfinished (commonly known as blanks or rough forgings) or finished. The subject merchandise is currently classifiable under subheadings 7307.99.1000, 7307.99.3000, 7307.99.5045, and 7307.99.5060 of the Harmonized Tariff Schedule of the United States (HTSUS). While the HTSUS subheadings are provided for convenience and customs purposes, the written description of the scope of this Order is dispositive. For a complete description of the scope of the Order, see the Preliminary Decision Memorandum.⁴

⁴ See Preliminary Results PDM.

Final Results of Review

As a result of this review, Commerce determines the following weighted-average dumping margin exists for the period, September 1, 2021, through August 31, 2022.

Producer or exporter | Weighted-average dumping margin (percent)
Both-Well Steel Fittings Co., Ltd | 0.00

Disclosure

Because Commerce received no comments on the Preliminary Results, we have not modified our analysis, and no decision memorandum accompanies this Federal Register notice. We are adopting the Preliminary Results as the final results of this review. Consequently, there are no new calculations to disclose in accordance with 19 CFR 351.224(b) for these final results of review.

Assessment Rates

Commerce shall determine, and U.S. Customs and Border Protection (CBP) shall assess, antidumping duties on all appropriate entries of subject merchandise in accordance with the final results of this review, pursuant to section 751(a)(2)(C) of the Act and 19 CFR 351.212(b). Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Because we calculated a zero weighted-average dumping margin for Bothwell in the final results of this review, we intend to instruct CBP to liquidate the appropriate entries without regard to antidumping duties. For entries of subject merchandise during the POR produced by Bothwell and for which Bothwell did not know its merchandise was destined for the United States, we will instruct CBP to liquidate unreviewed entries at the all-others rate established in the final determination of the less-than-fair-value investigation (i.e., 116.17 percent),⁵ if there is no rate for the intermediate company(ies) involved in the transaction.⁶

⁵ See Forged Steel Fittings from Taiwan: Final Determination of Sales at Less Than Fair Value, 83 FR 36519 (July 30, 2018.

⁶ See Antidumping and Countervailing Duty Proceedings: Assessment of Antidumping Duties, 68 FR 23954 (May 6, 2003).

Cash Deposit Requirements

The following deposit requirements will be effective upon publication of the notice of these final results for all shipments of forged steel fittings from Taiwan entered, or withdrawn from warehouse, for consumption on or after the publication date as provided by section 751(a)(2) of the Act: (1) the cash deposit rate for Bothwell will be zero; (2) for merchandise exported by companies not covered in this review but covered in a completed prior segment of the proceeding, the cash deposit rate will continue to be the company-specific rate published for the most recently completed segment; (3) if the exporter is not a firm covered in this review, a prior review, or the original investigation but the producer is, the cash deposit rate will be the rate established for the most recently completed segment for the producer of the merchandise; and (4) the cash deposit rate for all other producers or exporters will continue to be 116.17 percent, the all-others rate established in the less-than-fair-value investigation. These cash deposit requirements, when imposed, shall remain in effect until further notice.

Notification to Importers

This notice also serves as a final reminder to importers of their responsibility under 19 CFR 351.402(f)(2) to file a certificate regarding the reimbursement of antidumping duties prior to liquidation of the relevant entries during this POR. Failure to comply with this requirement could result in Commerce's presumption that reimbursement of antidumping duties has occurred and the subsequent assessment of double antidumping duties.

Administrative Protective Order (APO)

In accordance with 19 CFR 351.305(a)(3), this notice also serves as a reminder to parties subject to an APO of their responsibility concerning the return or destruction of proprietary information disclosed under the APO, which continues to govern business proprietary information in this segment of the proceeding. Timely written notification of the return or destruction of APO materials or conversion to judicial protective order is hereby requested. Failure to comply with the regulations and terms of an APO is a violation subject to sanction.

Notification to Interested Parties

We intend to issue and publish these results in accordance with sections 751(a)(1) and 777(i)(1) of the Act and 19 CFR 351.213(h) and 351.221(b)(5).

Dated: November 17, 2023.
Abdelali Elouaradia,
Deputy Assistant Secretary for Enforcement and Compliance.

[FR Doc. 2023-25929 Filed 11-22-23; 8:45 am]

BILLING CODE 3510-DS-P